COMMISSION ON CIVIL RIGHTS

Sunshine Act; Meeting

Agency: U.S. Commission on Civil Rights.

Date and Time: Friday, July 15, 2005, 9:30 a.m.

Place: Rayburn House Office Building, Room 2226, Washington, DC 20515.

Status:

Agenda

Commission Briefing

I. Brief Plaque Presentation Ceremony by the National Committee for Employer Support of the Guard and Reserve to the Commission.

II. Commission Briefing: Stagnation of the Black Middle Class.

Contact Person For Further Information: Kenneth L. Marcus, Staff Director, Press and Communications (202) 376-7700.

Jenny Park,
Acting Deputy General Counsel.

[FR Doc. 05-13512 Filed 7-5-05; 3:35 pm]

BILLING CODE 6335-01-M